POSTAL SERVICE

39 CFR Part 20

International Mailing Services: Price Changes

AGENCY: Postal Service™.

ACTION: Final action.

SUMMARY: On October 6, 2023, the Postal Service published notice of mailing services price adjustments with the Postal Regulatory Commission (PRC). The PRC concluded that the price adjustments contained in the Postal Service's notification may go into effect on January 21, 2024. The Postal Service will revise Notice 123, Price List, to reflect the new mailing services prices.

DATES: The mailing services price adjustments are effective January 21, 2024.

FOR FURTHER INFORMATION CONTACT: Dale Kennedy at 202-268-6592 or Kathy Frigo at 202-268-4178.

SUPPLEMENTARY INFORMATION:

I. Proposed Rule and Response

On October 6, 2023, the Postal Service filed a notice with the PRC In Docket No. R2024-1 of mailing services price adjustments to be effective on January 21, 2024. On October 24, 2023, the Postal Service published notification of proposed price changes in the Federal Register entitled “International Mailing Services: Proposed Price Changes” (88 FR 72972). The notification included price changes that the Postal Service would adopt for certain services covered by Mailing Standards of the United States Postal Service, International Mail Manual (IMM®) and publish in Notice 123, Price List, on Postal Explorer® at pe.usps.com. The Postal Service received no comments.

II. Order of the Postal Regulatory Commission

In PRC Order No. 6814, issued on November 22, 2023, in PRC Docket No. R2024-1, the PRC concluded that prices in the Postal Service's notice in Docket No. R2024-1 may go into effect on January 21, 2024. The new prices will accordingly be posted in Notice 123, Price List, on Postal Explorer at pe.usps.com.

III. Summary of Changes

First-Class Mail International®

The price for a single-piece postcard will be $1.55 worldwide. The First-Class Mail International (FCMI) letter nonmachinable will be $0.44. The FCMI single-piece letter and flat prices will be as follows:

Letters
Weight not over (oz.) | Price groups: 1 | Price groups: 2 | Price groups: 3-5 | Price groups: 6-9
1 | $1.55 | $1.55 | $1.55 | $1.55
2 | 1.55 | 2.35 | 2.80 | 2.80
3 | 2.22 | 3.10 | 4.10 | 4.10
3.5 | 2.84 | 3.89 | 5.40 | 5.40

Flats
Weight not over (oz.) | Price groups: 1 | Price groups: 2 | Price groups: 3-5 | Price groups: 6-9
1 | $3.00 | $3.00 | $3.00 | $3.00
2 | 3.35 | 3.98 | 4.23 | 4.23
3 | 3.64 | 4.87 | 5.45 | 5.45
4 | 3.89 | 5.78 | 6.71 | 6.71
5 | 4.18 | 6.69 | 7.93 | 7.93
6 | 4.46 | 7.58 | 9.16 | 9.16
7 | 4.74 | 8.50 | 10.39 | 10.39
8 | 5.02 | 9.40 | 11.61 | 11.61
12 | 6.41 | 11.35 | 14.08 | 14.08
15.994 | 7.80 | 13.30 | 16.54 | 16.54

International Extra Services and Fees

The Postal Service will increase prices for certain market dominant international extra services as noted:

• Certificate of Mailing service: Fees for certificate of mailing service for FCMI will increase as follows:

Certificate of Mailing
| Fee
Individual pieces:
Individual article (PS Form 3817) First-Class Mail International only | $2.00
Duplicate copy of PS Form 3817 or PS Form 3665 (per page) First-Class Mail International only | 2.00
Firm mailing sheet (PS Form 3665), per piece (minimum 3) First-Class Mail International only | 0.58
Bulk quantities:
For first 1,000 pieces (or fraction thereof) First-Class Mail International only | 11.10
Each additional 1,000 pieces (or fraction thereof) First-Class Mail International only | 1.45
Duplicate copy of PS Form 3606 First-Class Mail International only | 2.00

• Registered Mail® service: The fee for international Registered Mail service for FCMI will increase to $20.75.

• Return Receipt service: The fee for international return receipt service for FCMI will increase to $5.80.

• Customs Clearance and Delivery Fee: The Customs Clearance and Delivery Fee per dutiable item for Inbound Letter Post letters and flats will increase to $8.45.

• International Business Reply™ Mail Service: The price for IBRS cards will increase to $2.15, and the price for IBRS envelopes (up to 2 ounces) will increase to $2.70.

New prices will be listed in the updated Notice 123, Price List.

Ruth Stevenson,
Attorney, Ethics and Legal Compliance.

[FR Doc. 2023-27760 Filed 12-15-23; 8:45 am]

BILLING CODE 7710-12-P